DEPARTMENT OF THE INTERIOR

National Park Service

[NPS-WASO-NAGPRA-NPS0035767; PPWOCRADN0-PCU00RP14.R50000]

Notice of Intent To Repatriate Cultural Items: University of Florida, Florida Museum of Natural History, Gainesville, FL

AGENCY: National Park Service, Interior.

ACTION: Notice.

SUMMARY: In accordance with the Native American Graves Protection and Repatriation Act (NAGPRA), the University of Florida, Florida Museum of Natural History (FLMNH) intends to repatriate certain cultural items that meet the definition of unassociated funerary objects and sacred objects and that have a cultural affiliation with the Indian Tribes or Native Hawaiian organizations in this notice. The cultural items were removed from near Big Cypress Swamp, Collier County, FL.

DATES: Repatriation of the cultural items in this notice may occur on or after June 5, 2023.

ADDRESSES: Catherine Smith, University of Florida, Florida Museum of Natural History, 1659 Museum Road, Gainesville, FL 32611, telephone (352) 273-1921, email smithcatherine@floridamuseum.ufl.edu.

SUPPLEMENTARY INFORMATION: This notice is published as part of the National Park Service's administrative responsibilities under NAGPRA. The determinations in this notice are the sole responsibility of FLMNH. The National Park Service is not responsible for the determinations in this notice. Additional information on the determinations in this notice, including the results of consultation, can be found in the summary or related records held by FLMNH.

Description

The 29 cultural items were removed from near Big Cypress Swamp in Collier County, FL. These cultural items originally belonged to an unidentified Seminole warrior but were taken by Captain Winston J.T. Stephens, commander of a company of Florida Mounted Volunteers, in the Big Cypress Swamp on December 3, 1857, after he shot and killed the man in a skirmish between his company and a group of “Indians” during the Third Seminole War. The account was both orally passed down through the Stephens family and documented in a journal kept by Captain Stephens. FLMNH (called the Florida State Museum at the time) acquired these cultural items from a descendent of Captain Stephens as a private donation on 10/12/1975. These items were accessioned to the FLMNH anthropology division as the Stephens Collection (Acc.# 75-81) within the general ethnography collection then incorporated into the Florida Ethnographic Collections upon its establishment. The six unassociated funerary objects include the Seminole warrior's belongings currently held by FLMNH. The 23 sacred objects include items used in traditional Seminole ceremonies, which were also in the possession of the Seminole warrior at time of death.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: historical, oral tradition, and geographical location.

Determinations

Pursuant to NAGPRA and its implementing regulations, and after consultation with the appropriate Indian Tribes and Native Hawaiian organizations, the FLMNH has determined that:

• The six cultural items described above are reasonably believed to have been placed with or near individual human remains at the time of death or later as part of the death rite or ceremony and are believed, by a preponderance of the evidence, to have been removed from a specific burial site of a Native American individual.

• The 23 cultural items described above are specific ceremonial objects needed by traditional Native American religious leaders for the practice of traditional Native American religions by their present-day adherents.

• There is a relationship of shared group identity that can be reasonably traced between the cultural items and the Seminole Tribe of Florida.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 5, 2023. If competing requests for repatriation are received, FLMNH must determine the most appropriate requestor prior to repatriation. Requests for joint repatriation of the cultural items are considered a single request and not competing requests. FLMNH is responsible for sending a copy of this notice to the Indian Tribe identified in this notice.

Authority: Native American Graves Protection and Repatriation Act, 25 U.S.C. 3003, and the implementing regulations, 43 CFR 10.8, 10.10, and 10.14.

Dated: April 25, 2023.
Melanie O'Brien,
Manager, National NAGPRA Program.

[FR Doc. 2023-09470 Filed 5-3-23; 8:45 am]

BILLING CODE 4312-52-P